DEPARTMENT OF THE INTERIOR

Bureau of Land Management

[LLCO956000.L14200000 BJ0000]

Notice of Stay of Filing of Plat; Colorado

AGENCY: Bureau of Land Management, Interior.

ACTION: Notice of Stay of Filing of Plat.

SUMMARY: On Monday, August 8, 2011, the Bureau of Land Management (BLM), Colorado, published a Notice of Stay of Filing of Plats, in the Federal Register (76 FR 48174) declaring the intent to file certain plats on September 30, 2011. The BLM Colorado State Office is publishing this notice to inform the public that a stay has been placed on the proposed filing of the plat and field notes of the dependent resurvey and surveys in Township 9 South, Range 93 West, Sixth Principal Meridian, Colorado, accepted on August 5, 2010, pending consideration of the protest and/or appeal that was filed. A plat will not be officially filed until after disposition of protest and/or appeal.

ADDRESSES: BLM Colorado State Office, Cadastral Survey, 2850 Youngfield Street, Lakewood, Colorado 80215-7093.

FOR FURTHER INFORMATION CONTACT: Randy Bloom, Chief Cadastral Surveyor for Colorado, (303) 239-3856.

Randy Bloom,
Chief Cadastral Surveyor for Colorado.

[FR Doc. 2011-25771 Filed 10-5-11; 8:45 am]

BILLING CODE 4310-JB-P